Title 3—

The President

Proclamation 11013 of February 23, 2026

National Angel Family Day, 2026

By the President of the United States of America

A Proclamation

On National Angel Family Day, we remember and honor the thousands of American lives stolen from us by criminal illegal aliens and the deadly drugs they bring across our borders. We stand with the Angel Families, many of whom continue to be left without justice. And we recommit to carrying out the largest mass-deportation effort in our Nation's history, getting the worst of the worst out of our country, and putting a stop to the violence targeting the brave men and women of law enforcement.

Every year, thousands of American citizens are victimized by dangerous and criminal illegal aliens, often sent here by their home countries to get them out of their prisons or off their own streets. After returning to office, I received a letter from a New York City police officer that filled the First Lady and me with tremendous sadness and anger. He wrote to the White House about one of the most unconscionable of these derelictions in recent memory—the murder of Laken Riley.

In 2022, a Venezuelan man named Jose Ibarra was caught crossing the Southern Border illegally and released into our country by the Biden Administration. A year later, this NYPD officer personally witnessed Ibarra endanger a child on the streets of New York and arrested him. The officer was shocked to learn that, shortly thereafter, New York City—a so-called “sanctuary” jurisdiction—released Ibarra back into the community before Immigration and Customs Enforcement (ICE) could issue a detainer for his removal. Ibarra then fled to Georgia and, just a few months later, brutally murdered a beautiful young American named Laken Riley.

Stories like this officer's, whose diligence should have prevented Laken's murder, and heartbreaking losses suffered by countless other Angel Families, strengthen my resolve to fix the illegal immigration crisis with ferocious energy.

The human cost of the migrant crime crisis is written in the lives of Americans like Laken Riley, Jocelyn Nungaray, and Rachel Morin, who were brutally attacked and murdered by savage illegal aliens, and in the lives of Matthew Denice, Sarah Root, and Ivory Smith, killed by drunk-driving illegal aliens. Each of these lives and countless others were stolen by criminal illegal aliens who should have never been in our country. Each of them was loved, full of promise, and taken far too soon. These losses also include the thousands of Americans who die each year by fentanyl trafficked across the border by cartels and criminal illegal aliens. That is the most tragic part of this crisis—every life taken, every child trafficked, every vehicular homicide, every drug-related death, and every crime committed in this country by an illegal alien is 100 percent preventable.

On the second anniversary of Laken Riley's murder, we remember her kindness and the promise of her young life. While nothing can undo the pain her family has suffered, I recommit to removing dangerous illegal alien criminals from our Nation to prevent such senseless tragedies from happening again. As President, the first bill I signed into law was the Laken Riley Act. In Laken's memory, this commonsense law mandates the detention and deportation of illegal alien criminals and allows States to sue the Federal Government when politicians fail to enforce immigration laws. In just the first 6 months of my term, I declared a National Emergency at the Southern Border, reinstated the Remain in Mexico policy, and deployed troops to the Southern Border to stop the invasion of our country. I also designated cartels as foreign terrorist organizations, and by taking targeted strikes against these narco-terrorists, we are halting the flow of deadly drugs that have plagued our communities, stolen countless American lives, and shattered families across our Nation.

Following the passage of the historic One Big Beautiful Bill in July, we are now executing the strongest immigration overhaul in modern American history. This landmark legislation unleashes a massive surge in Homeland Security, ICE, and Border Patrol personnel, authorizes the construction of hundreds of miles of new border wall, and equips law enforcement with the tools and resources they need to arrest and remove dangerous illegal aliens from our streets and dismantle trafficking networks.

The results are undeniable. The first quarter of fiscal year 2026 recorded the lowest numbers of southwest border apprehensions ever. Nationwide encounters are down 92 percent from the monthly average under the previous administration, and for the ninth consecutive month, there have been zero releases along the southwest border—zero. We have achieved the safest and most secure border in American history. But there is still much work to do.

We must end the violence against the brave men and women of ICE and Border Patrol. The demonization of these heroes by radical politicians must stop, and the reckless sanctuary policies that shield criminal aliens must end once and for all.

I am also calling on the Congress to pass Kate's Law—legislation that imposes stronger penalties on individuals who illegally re-enter the United States after being deported, especially those previously convicted of crimes. These actions are how we will stop these tragic killings from happening time and time again.

A Nation without strong borders is not truly a Nation, and a people without justice can never be fully free. We renew our duty to uphold the rule of law, secure our borders, and deliver accountability for every American killed by illegal aliens and for every Angel Family forced to carry the unimaginable loss. We will never forget the victims, we stand with the families who endure this permanent hole in their lives, and we will never stop fighting to protect our people and our homeland.

NOW, THEREFORE, I, DONALD J. TRUMP, President of the United States of America, by virtue of the authority vested in me by the Constitution and the laws of the United States, do hereby proclaim February 22, 2026, as National Angel Family Day. I call on the American people to assemble in their respective places of worship to pay homage to the victims killed by illegal aliens and to those taken by the fentanyl epidemic, and lift up the Angel Families and families devastated by drug overdoses. I further call upon public officials, community leaders, and all citizens to end the violence and lawlessness that have claimed so many innocent lives.

IN WITNESS WHEREOF, I have hereunto set my hand this twenty-third day of February, in the year of our Lord two thousand twenty-six, and of the Independence of the United States of America the two hundred and fiftieth.

[FR Doc. 2026-03947

Filed 2-25-26; 11:15 am]

Billing code 3395-F4-P